DEPARTMENT OF ENERGY

Federal Energy Regulatory Commission

[Docket No. ER00-3668-003, et al.]

Commonwealth Edison Company, et al.; Electric Rate and Corporate Regulation Filings

January 3, 2001.

Take notice that the following filings have been made with the Commission. Any comments should be submitted in accordance with Standard Paragraph E at the end of this notice.

1. Commonwealth Edison Company

[Docket No. ER00-3668-003]

Take notice that on December 10, 2001, Commonwealth Edison Company (ComEd), in compliance with the Commission's November 9, 2001 “Order Conditionally Accepting Compliance Filing,” 97 FERC ¶ 61,171 (2001), submitted for filing with the Federal Energy Regulatory Commission (Commission) in the above-referenced proceeding a revised compliance filing. As required by the Commission, ComEd deleted modifications of the unexecuted Interconnection Agreement related to the additions to Section 7.1 and the modification to Appendix C of the Interconnection Agreement. Copies of this filing were served on University Park, on the Illinois Commerce Commission and on the parties designated on the official service list compiled by the Secretary.

Comment Date: January 14, 2002.

2. Duke Energy Corporation

[Docket No. ER01-1616-006]

Take notice that on December 28, 2001, Duke Energy Corporation filed a refund report in the above-captioned proceeding.

Comment Date: January 18, 2002.

3. PJM Interconnection, L.L.C.

[Docket No. ER02-563-000]

Take notice that on December 28, 2001, PJM Interconnection, L.L.C. (PJM) tendered for filing a notice of withdrawal of its proposed amendments to section 8.6 of the Appendix to Attachment K of PJM's Open Access Transmission Tariff and to Schedule 1 of the Amended and Restated Operating Agreement of PJM Interconnection, L.L.C. filed in this docket. PJM proposed the amendments to conform the provisions of PJM's interregional congestion pilot program between PJM and the New York Independent System Operator, Inc. (NYISO) to the provisions filed by NYISO in Docket No. ER02-194-000. PJM seeks to withdraw the proposed conforming amendments because the Federal Energy Regulatory Commission rejected the corresponding NYISO provisions.

Copies of this filing have been served on all PJM Members, the NYISO, the state electric utility regulatory commissions in the PJM and NYISO control areas, and the parties on the official service lists in Docket Numbers ER01-2528, ER02-194-000, and ER02-563-000.

Comment Date: January 18, 2002.

4. Exelon Generation Company, LLC

[Docket No. ER02-615-000]

Take notice that on December 27, 2001, Exelon Generation Company, LLC (Exelon Generation), submitted for filing a power sales service agreement between Exelon Generation and American Electric Power Services Corporation as agent for the AEP Companies under Exelon Generation's wholesale power sales, tariff, FERC Electric Tariff Original Volume No. 2

Comment Date: January 17, 2002.

5. San Diego Gas & Electric Company

[Docket No. ER02-635-000]

Take notice that on December 28, 2001, San Diego Gas & Electric (SDG&E) tendered for filing a change in rates for the Transmission Revenue Balancing Account Adjustment and the Transmission Access Charge Balancing Account Adjustment set forth in its Transmission Owner Tariff (TO Tariff). The effect of this rate change is to increase rates for jurisdictional transmission service utilizing that portion of the California Independent System Operator-Controlled Grid owned by SDG&E. SDG&E requests that this rate change be made effective January 1, 2002.

Copies of this filing were served upon the Public Utilities Commission of the State of California, the California Independent System Operator and other interested parties.

Comment Date: January 18, 2002.

6. Southern California Edison Company

[Docket No. ER02-636-000]

Take notice that on December 28, 2001, Southern California Edison Company (SCE) tendered for filing a revision to its Transmission Owner Tariff, FERC Electric Tariff, Substitute First Revised Original Volume No. 6, to reflect the annual update of the Transmission Revenue Balancing Account Adjustment and the Transmission Access Charge Balancing Account Adjustment to become effective January 1, 2002.

Copies of this filing were served upon the Public Utilities Commission of the State of California, the California Independent System Operator, and all interested parties.

Comment Date: January 18, 2002.

7. Pacific Gas and Electric Company

[Docket No. ER02-637-000]

Take notice that on December 28, 2001, Pacific Gas and Electric Company (PG&E) tendered for filing changes in rates for the Transmission Revenue Balancing Account Adjustment (TRBAA) rate set forth in its Transmission Owner Tariff (TO Tariff), the Reliability Services (RS) rates set forth in both its TO Tariff and its Reliability Services Tariff (RS Tariff) (certain customers' RS rates are in the TO Tariff while other customers' RS rates are in the separate RS Tariff) and the Transmission Access Charge Balancing Account Adjustment (TACBAA) also set forth in its TO Tariff. With the exception of the TACBAA rate, these changes in rates are proposed to become effective January 1, 2002.

Copies of this filing have been served upon the California Independent System Operator (ISO), Scheduling Coordinators registered with the ISO, Southern California Edison Company, San Diego Gas &Electric Company, the California Public Utilities Commission and other parties to the official service lists in recent TO Tariff rate cases, FERC Docket Nos. ER00-2360-000 and ER01-66-000.

Comment Date: January 18, 2002.

8. New York Independent System Operator, Inc.

[Docket No. ER02-638-000]

Take notice that on December 28, 2001, the New York Independent System Operator, Inc. (NYISO) filed revisions to its Market Administration and Control Area Services Tariff and Open Access Transmission Tariff in order to implement a new program that will allow market participants to “pre-schedule” external transactions and wheels-through. The NYISO has requested an effective date of February 28, 2002.

The NYISO has served a copy of this filing upon parties on the official service lists maintained by the Commission for the above-captioned docket.

Comment Date: January 18, 2002.

9. New York Independent System Operator, Inc.

[Docket No. ER02-639-000]

Take notice that on December 28, 2001, the New York Independent System Operator, Inc. (NYISO) filed a revision to Schedule 1, Section 3A of its Open Access Transmission Tariff (OATT), to specifically enumerate “Regulatory fees” as a recoverable NYISO cost. The NYISO has requested a waiver of notice requirements and has proposed an effective date of January 1, 2002 for the filing.

The NYISO has served a copy of this filing upon all parties that have executed service agreements under the NYISO's OATT and Services Tariff.

Comment Date: January 18, 2002.

10. Western Resources, Inc.

[Docket No. ER02-640-000]

Take notice that on December 28, 2001, Western Resources, Inc. (WR) tendered for filing a Service Agreement between WR and Mississippi Delta Energy Agency (MDEA). WR states that the purpose of this agreement is to permit MDEA to take service under WR's Market Based Power Sales Tariff on file with the Commission. This agreement is proposed to be effective November 28, 2001.

Copies of the filing were served upon MDEA and the Kansas Corporation Commission.

Comment Date: January 18, 2002.

11. Ameren Services Company

[Docket No. ER02-641-000]

Take notice that on December 28, 2001, Ameren Services Company (ASC) tendered for filing a Service Agreement for Long Term Firm Point-to-Point Transmission Services between ASC and Ameren Energy, Inc. ASC asserts that the purpose of the Agreement is to permit ASC to provide transmission service to Ameren Energy, Inc. pursuant to Ameren's Open Access Transmission Tariff.

Comment Date: January 18, 2002.

12. Exelon Generation Company, LLC

[Docket No. ER02-642-000]

Take notice that on December 27, 2001, Exelon Generation Company, LLC (Exelon Generation), submitted for filing a notice of cancellation of its service agreement for the purchase and sale of power and energy with Sempra Energy Trading Corp. f/k/a AIG Trading Corporation. Copies of the filing have been served on the parties to the affected service agreements.

Exelon Generation proposes that the cancellations be made effective on December 26, 2001, and therefore requests waiver of the Commission's notice requirement.

Comment Date: January 18, 2002.

13. Southern California Edison Company

[Docket No. ER02-643-000]

Take notice, that on December 28, 2001, Southern California Edison Company (SCE) tendered for filing the Amended and Restated District-Edison 1987 Service and Interchange Agreement (Agreement) between SCE and The Metropolitan Water District of Southern California (District), which provides the terms to redefine the methodology for valuing the return of exchange energy delivered by District to SCE after January 17, 2001, for the contract year beginning October 1, 2000. Copies of this filing were served upon the Public Utilities Commission of the State of California and District.

SCE requests the Commission to assign an effective date January 17, 2001 to the Agreement.

Comment Date: January 18, 2002.

14. Northeast Utilities Service Company, Holyoke Water Power Company, Holyoke Power and Electric Company

[Docket No. ER02-644-000]

Take notice that on December 28, 2001, Northeast Utilities Service Company (NUSCO), on behalf of Holyoke Water Power Company (HWP) and Holyoke Power and Electric Company (HP&E), tendered for filing (1) an amendment extending through December 31, 2002 the term of an agreement for the sale of 100 percent of the net output of the Mt. Tom Power Plant (Mt. Tom) from HWP to HP&E and (2) an amendment extending through December 31, 2002 the term of an agreement for the sale of 100 percent of HP&E's entitlement to Mt. Tom's net output from HP&E to Select Energy, Inc. NUSCO, HWP, and HP&E seek an effective date for the amendments of January 1, 2002.

Comment Date: January 18, 2002.

15. American Transmission Company LLC

[Docket No. ER02-645-000]

Take notice that on December 28, 2001, American Transmission Company LLC (ATCLLC) tendered for filing OATT revisions to accommodate retail access in Michigan. ATCLLC requests an effective date of January 1, 2002.

Comment Date: January 18, 2002.

16. Alliant Energy Corporate Services, Inc.

[Docket No. ER02-646-000]

Take notice that on December 28, 2001, Alliant Energy Corporate Services, Inc. tendered for filing with the Federal Energy Regulatory Commission (Commission) executed Service Agreements with Dairyland Power Cooperative establishing Dairyland Power Cooperative as a Long-term Firm Point-to-Point Transmission Customer under the terms of the Alliant energy corporate Services, Inc. Open Access Transmission Tariff.

Alliant Energy Corporate Services, Inc. requests effective dates of May 1, 2001 for service agreement with OASIS request numbers 834751 and 834744; May 1, 2000 for service agreement with OASIS request numbers 584184 and 584180; May 1, 1999 for service agreement with OASIS request 407826 and accordingly, seeks waiver of the Commission's notice requirements. A copy of this filing has been served upon the Illinois Commerce Commission, the Minnesota Public Utilities Commission, the Iowa Department of Commerce, and the Public Service Commission of Wisconsin.

Comment Date: January 18, 2002.

17. Alliant Energy Corporate Services, Inc.

[Docket No. ER02-647-000]

Take notice that on December 28, 2001, Alliant Energy Corporate Services, Inc. tendered for filing with the Federal Energy Regulatory Commission (Commission) executed Service Agreements with NRG Power Marketing Inc. establishing EnXco, Inc. as a Short-Term Firm and Non-Firm Point-to-Point Transmission Customer under the terms of the Alliant Energy Corporate Services, Inc. Open Access Transmission Tariff.

Alliant Energy corporate Services, Inc. requests an effective date of November 27, 2001, and accordingly, seeks waiver of the Commission's notice requirements. A copy of this filing has been served upon the Illinois Commerce Commission, the Minnesota Public Utilities Commission, the Iowa Department of Commerce, and the Public Service Commission of Wisconsin.

Comment Date: January 18, 2002.

18. Sithe New Boston, LLC

[Docket No. ER02-648-000]

Take notice that on December 28, 2001 Sithe New Boston, LLC (Sithe New Boston) tendered for filing with the Federal Energy Regulatory Commission (Commission) a Reliability Must Run Agreement with ISO New England Inc. Sithe New Boston requests an effective date of January 1, 2002. Sithe New Boston requests a waiver of all applicable Commission regulations to permit such effective date.

Sithe New Boston provided a copy of this filing to ISO-NE on the date of filing. Sithe New Boston also as a courtesy has mailed a copy of this filing to each affected state regulatory authority.

Comment Date: January 18, 2002.

19. New England Power Company

[Docket No. ER02-649-000]

Take notice that on December 28, 2001, New England Power Company (NEP) tendered for filing Original Service Agreement No. 17 for service under NEP's Wholesale Market Sales Tariff, FERC Electric Tariff, Original Volume No. 10 between NEP and Morgan Stanley Capital Group Inc.

Comment Date: January 18, 2002.

20. FirstEnergy Solutions Corp.

[Docket No. ER02-650-000]

Take notice that on December 28, 2001, FirstEnergy Solutions Corp. (FE Solutions) submitted for filing service agreements between FE Solutions and its affiliates, Metropolitan Edison Company and Pennsylvania Electric Company, under FE Solutions' market-based rate power sales tariff, FirstEnergy Solutions Corp., FERC Electric Tariff, Original Volume No.1.

Comment Date: January 18, 2002.

21. California Independent System Operator Corporation

[Docket No. ER02-651-000]

Take notice that on December 28, 2001, the California Independent System Operator Corporation (ISO) submitted for filing Amendment No. 41 to the ISO Tariff. Amendment No. 41 would modify the ISO Tariff and Protocols in four respects. First, the ISO proposes changes in the use of interest received by the ISO on payments in default to permit the use of such interest to pay unpaid creditors first and secondly to offset the Grid Management Charge. Second, the ISO proposes new provisions to create a “safe harbor” mechanism to permit the ISO to provide confidential information to governmental agencies that have established their own confidentiality provisions and procedures. Third, the ISO proposes changes to the definition of the Non-Emergency Clearing Price Limit to provide for a negative maximum. Fourth, the ISO proposes the correction of a typographical error in ISO Tariff Section 9.2.6. The ISO requests that the first proposal described above be made effective November 1, 2001, and that the other three proposals described above be made effective February 26, 2002.

The ISO has served copies of this filing upon the Public Utilities Commission of the State of California, the California Energy Commission, the California Electricity Oversight Board, and upon all parties with effective Scheduling Coordinator Service Agreements under the ISO Tariff.

Comment Date: January 18, 2002.

22. Midwest Independent Transmission System Operator, Inc.

[Docket No. ER02-652-000]

Take notice that on December 28, 2001, the Midwest Independent Transmission System Operator, Inc. (the Midwest ISO) tendered for filing revisions to its Open Access Transmission Tariff (OATT), FERC Electric Tariff, Original Volume No. 1, which propose to provide the means for the Midwest ISO to bill Midwest ISO's Transmission Owners and International Transmission Company for Midwest ISO's monthly capital costs and the portion of its operating costs consistent with the services the Midwest ISO will be providing prior to the provision of Transmission Service under the Midwest ISO OATT.

The Midwest ISO also seeks waiver of the Commission's regulations, 18 CFR 385.2010 (2001) with respect to service on all parties on the official service list in this proceeding. The Midwest ISO has electronically served a copy of this filing, with attachments, upon all Midwest ISO Members, Member representatives of Transmission Owners and Non-Transmission Owners, the Midwest ISO Advisory Committee participants, Policy Subcommittee participants, as well as all state commissions within the region. In addition, the filing has been electronically posted on the Midwest ISO's Website at www.midwestiso.org under the heading “Filings to FERC” for other interested parties in this matter. The Midwest ISO will provide hard copies to any interested parties upon request.

Comment Date: January 18, 2002.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 02-569 Filed 1-9-02; 8:45 am]

BILLING CODE 6717-01-P